ENVIRONMENTAL PROTECTION AGENCY

[FRL-8967-8]

2009 Fall Meeting of the Ozone Transport Commission

AGENCY: Environmental Protection Agency.

ACTION: Notice of meeting.

SUMMARY: The United States Environmental Protection Agency is announcing the 2009 Fall Meeting of the Ozone Transport Commission (OTC). This OTC meeting will explore options available for reducing ground-level ozone precursors in a multi-pollutant context.

DATES: The meeting will be held on November 5, 2009 starting at 9 a.m. (EST) and ending at 5 p.m.

ADDRESSES: Hotel Monaco Baltimore, 2 North Charles Street, Baltimore, MD 21201; (443) 692-6170.

FOR FURTHER INFORMATION CONTACT: For documents and press inquiries contact: Ozone Transport Commission, 444 North Capitol Street, NW., Suite 638, Washington, DC 20001; (202) 508-3840; e-mail: ozone@otcair.org; Web site: www.otcair.org.

SUPPLEMENTARY INFORMATION: The Clean Air Act Amendments of 1990 contain at Section 184 provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia and the District of Columbia. The purpose of the Ozone Transport commission is to deal with ground-level ozone formation, transport, and control within the OTR.

Type of Meeting: Open.

Agenda: Copies of the final agenda will be available from the OTC office (202) 508-3840; by e-mail: ozone@otcair.org; or via the OTC Web site at http://www.otcair.org.

Dated: September 30, 2009.
James W. Newsom,
Acting Regional Administrator, Region III.

[FR Doc. E9-24553 Filed 10-9-09; 8:45 am]

BILLING CODE 6560-50-P